DEPARTMENT OF HEALTH AND HUMAN SERVICES

National Institutes of Health

National Institute of Environmental Health Sciences; Notice of Meeting

Pursuant to section 10(a) of the Federal Advisory Committee Act, as amended, notice is hereby given of a meeting of the National Advisory Environmental Health Sciences Council.

The meeting will be open to the public, with attendance limited to space available. Individuals who plan to attend and need special assistance, such as sign language interpretation or other reasonable accommodations, should notify the Contact Person listed below in advance of the meeting.

Name of Committee: Special Open Session of the National Advisory Environmental Health Sciences Council.

Date: November 29, 2021.

Time: 3:30 p.m. to 5:00 p.m.

Agenda: Concept: Climate Change and Health Initiative.

Place: National Institute of Environmental Health Science, Research Triangle Park, NC, https://www.niehs.nih.gov/news/webcasts/ (Virtual Meeting).

Contact Person: J. Patrick Mastin, Ph.D., Deputy Division Director, Division of Extramural Research and Training, National Institute of Environmental Health Science, Research Triangle Park, NC 27709, (984) 287-3285, mastin@niehs.nih.gov.

Any interested person may file written comments with the committee by forwarding the statement to the Contact Person listed on this notice. The statement should include the name, address, telephone number and when applicable, the business or professional affiliation of the interested person.

Information is also available on the Institute's/Center's home page: https://www.niehs.nih.gov/about/boards/naehsc/index.cfm, where an agenda and any additional information for the meeting will be posted when available.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: October 21, 2021.
David W. Freeman,
Program Analyst, Office of Federal Advisory Committee Policy.

[FR Doc. 2021-23371 Filed 10-26-21; 8:45 am]

BILLING CODE 4140-01-P